DEPARTMENT OF ENERGY

Federal Energy Regulatory Commission

[Docket No. AD22-11-000, AD21-9-000]

Office of Public Participation Fundamentals for Participating in FERC Matters; Notice of Video Workshop: “WorkshOPP on FERC's eLibrary”

The Office of Public Participation (OPP)'s “WorkshOPP on FERC's eLibrary” video is now available for the public. The WorkshOPP provides an overview of FERC's online library of documents issued or received by FERC, including its organization, services, and search functions. The video is posted on FERC's YouTube channel under OPP's Playlist at https://www.youtube.com/@FERC/playlists. It includes captioning in English and Spanish and is compliant with Section 508 of the Rehabilitation Act of 1973. Additionally, a standalone demonstration video of how to search eLibrary is available.

OPP supports meaningful public engagement and participation in Commission proceedings. OPP can help members of the public, including landowners, environmental justice communities, Tribal members and others, access publicly available information and navigate Commission processes. For public inquiries and assistance with making filings such as interventions, comments, or requests for rehearing, the public is encouraged to contact OPP at (202) 502-6595 or OPP@ferc.gov.

Dated: April 30, 2024.
Debbie-Anne Reese,
Acting Secretary.

[FR Doc. 2024-09838 Filed 5-6-24; 8:45 am]

BILLING CODE 6717-01-P